COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: April 8, 2013.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Additions

On 12/21/2012 (77 FR 75616); 12/31/2012 (77 FR 77038); 1/11/2013 (78 FR 2378); and 1/18/2013 (78 FR 4133-4134), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 USC 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 USC 8501-8506) in connection with the products and services proposed for addition to the Procurement List.

End of Certification

Accordingly, the following products and services are added to the Procurement List:

Products

NSN: 5120-00-902-0092—Hammer—2 lb, Cross-Peen, 16′ Fiberglass Handle, Cushioned Grip

NSN: 5120-00-902-0093—Hammer—4 lb, Cross-Peen, 16′ Fiberglass Handle, Cushioned Grip

NSN: 5120-00-900-6095—Hammer—6 lb, Sledge, Double-Faced, 32′ Fiberglass Handle, Cushioned Grip

NSN: 5120-00-900-6096—Hammer—8 lb, Sledge, Double-Faced, 32′ Fiberglass Handle, Cushioned Grip

NSN: 5120-00-900-6097—Hammer—10 lb, Sledge, Double-Faced, 34′ Fiberglass Handle, Cushioned Grip

NSN: 5120-00-900-6098—Hammer—12 lb, Sledge, Double-Faced, 34′ Fiberglass Handle, Cushioned Grip

NPA: Keystone Vocational Services, Inc., Sharon, PA

Contracting Activity: General Services Administration, Tools Acquisition Division I, Kansas City, MO

Coverage: B-List for the Broad Government Requirement as aggregated by the General Services Administration.

Services

Service Type/Location: Reprographic Service, Department of State, Office of Logistics Management (OLM), (Offsite: 750 S 23rd Street, Arlington, VA), 1701 N Fort Myer Drive, Arlington, VA.

NPA: Linden Resources, Inc., Arlington, VA

Contracting Activity: DEPARTMENT OF STATE, OFFICE OF ACQUISITION MGMT—MA, ARLINGTON, VA

Service Type/Location: Custodial Service, Colorado Springs USARC, 4195 Foreign Trade Zone Blvd., Colorado Springs, CO.

NPA: Pueblo Diversified Industries, Inc., Pueblo, CO

Contracting Activity: DEPT OF THE ARMY, W6QM MICC-ARCC NORTH, FORT MCCOY, WI

Service Type/Location: Management of State Department Mobile Security, Deployment (MSD) Kit Service, Department of State, (Offsite: Virginia Industries for the Blind, 1102 Monticello Rd, Charlottesville, VA), 2216 Gallows Road, Dunn Loring, VA.

NPA: Virginia Industries for the Blind, Charlottesville, VA

Contracting Activity: Department of State, DS Office of Acquisition Mgmt, Arlington, VA

Barry S. Lineback,
Director, Business Operations.

[FR Doc. 2013-05443 Filed 3-7-13; 8:45 am]

BILLING CODE 6353-01-P